DEPARTMENT OF COMMERCE

National Oceanic and Atmospheric Administration

[RTID 0648-XC230]

South Atlantic Fishery Management Council; Public Hearings

AGENCY: National Marine Fisheries Service (NMFS), National Oceanic and Atmospheric Administration (NOAA), Commerce.

ACTION: Notice of a public hearing.

SUMMARY: The South Atlantic Fishery Management Council (Council) will hold a public hearing to obtain input on the Comprehensive Acceptable Biological Catch (ABC) Control Rule Amendment, which affects the Fishery Management Plan (FMP) for the Dolphin Wahoo Fishery of the Atlantic (Dolphin Wahoo FMP), the FMP for the Golden Crab Fishery of the South Atlantic Region (Golden Crab FMP), and the Fishery Management Plan for the Snapper Grouper Fishery of the South Atlantic Region.

DATES: The public hearing will be held via webinar on August 24, 2022, beginning at 6 p.m., EDT. For specific dates and times, see SUPPLEMENTARY INFORMATION.

ADDRESSES:

Meeting address: The public hearing will be held via webinar. Information, including a link to webinar registration will be posted on the Council's website at: https://safmc.net/public-hearings-scoping-2/ as it becomes available.

Council address: South Atlantic Fishery Management Council, 4055 Faber Place Drive, Suite 201, N Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: A public hearing document, an online public comment form, and other materials will be posted to the Council's website at https://safmc.net/public-hearings-scoping-2/ by August 10, 2022. Comments will be accepted through 5 p.m. on August 26, 2022. During the hearing, Council staff will provide an overview of actions being considered in the amendment. Staff will answer clarifying questions on the presented information and the proposed actions. Following the presentation and questions, the public will have the opportunity to provide comments on the amendment.

The ABC Control Rule Amendment considers revisions to the ABC control rule for the Dolphin Wahoo, Golden Crab, and Snapper Grouper Fishery Management Plans. These revisions include changes to the structure of the control rule in how risk and uncertainty components are addressed, allowance of phasing in ABC changes over multiple years, and allowance for unharvested portions of annual catch limits (ACL) to be carried over to increase ACL in the following year.

Special Accommodations

The hearing is physically accessible to people with disabilities. Requests for auxiliary aids should be directed to the Council office (see ADDRESSES) 3 days prior to the meeting.

Note: The times and sequence specified in this agenda are subject to change.

Authority: 16 U.S.C. 1801 et seq.

Dated: August 1, 2022.
Rey Israel Marquez,
Acting Deputy Director, Office of Sustainable Fisheries, National Marine Fisheries Service.

[FR Doc. 2022-16737 Filed 8-3-22; 8:45 am]

BILLING CODE 3510-22-P